DEPARTMENT OF JUSTICE

28 CFR Part 25

[AG Order No. 2425-2001; FBI 105F]

RIN 1110-AA02

National Instant Criminal Background Check System Regulation; Delay of Effective Date

AGENCY: Federal Bureau of Investigation, Department of Justice.

ACTION: Final rule; delay of effective date.

SUMMARY: In accordance with the memorandum of January 20, 2001, from the Assistant to the President and Chief of Staff, entitled “Regulatory Review Plan,” published in the Federal Register on January 24, 2001 (66 FR 7702), the Department of Justice temporarily delayed for 60 days (66 FR 12854) the effective date of the final rule entitled “National Instant Criminal Background Check System Regulation” (66 FR 12854, March 1, 2001), originally published in the Federal Register on January 22, 2001 (66 FR 6470). This action temporarily postpones for an additional 60 days the effective date of that final rule. This temporary 60-day delay in effective date is necessary to give Department of Justice officials further opportunity to review the rule, with the goal of adopting a regulation that will resolve issues regarding audit requirements, privacy interests, and other considerations identified during the recent 60-day review period.

DATES: The effective date of the final rule amending 28 CFR Part 25 published in the Federal Register on January 22, 2001, at 66 FR 6470 is delayed for an additional 60 days, from May 4, 2001, until July 3, 2001. This action is effective immediately upon publication.

FOR FURTHER INFORMATION CONTACT: Fanny Haslebacher, Attorney-Advisor, Federal Bureau of Investigation, Module A-3, 1000 Custer Hollow Road, Clarksburg, West Virginia 26306-0147, (304) 625-2000.

SUPPLEMENTARY INFORMATION: To the extent that 5 U.S.C. section 553 applies to this action, it is exempt from notice and comment because it constitutes a rule of procedure under 5 U.S.C. 553(b)(A). Alternatively, the Department's implementation of this action without opportunity for public comment, effective immediately upon publication today in the Federal Register is based on the good cause exceptions in 5 U.S.C. 553(b)(B) and 553(d)(3). The new Department officials must have sufficient, limited time to review the rule and its administrative record thoroughly in order to determine whether the rule sufficiently addresses questions concerning the implementation of the audit requirements, important privacy interests, and other considerations identified during the recent 60-day review period. Accordingly, the Department finds that there is good cause for this limited delay of the effective date, without notice and comment, and that this action is in the public interest. Any additional delays will be ordered only after notice-and-comment rulemaking on the question of such delay.

Dated: May 3, 2001.
John Ashcroft,
Attorney General.

[FR Doc. 01-11507 Filed 5-3-01; 10:59 am]

BILLING CODE 4410-01-M